DEPARTMENT OF THE TREASURY

United States Mint

Pricing for Liberty & Britannia Products

AGENCY: United States Mint, Department of the Treasury.

ACTION: Notice.

SUMMARY: The United States Mint is setting prices for the Liberty & Britannia Products.

24YA | Liberty & Britannia 24K High Relief Gold Proof Coin | Per grid.
24YB | Liberty & Britannia Silver Proof Medal | $89.00.

FOR FURTHER INFORMATION CONTACT: Ann Bailey, Sales and Marketing, United States Mint, 801 9th Street NW, Washington, DC 20220; or call 202-354-7500.

Authority: 31 U.S.C. 5111, 5112, & 9701.

Eric Anderson,
Executive Secretary, United States Mint.

[FR Doc. 2024-01091 Filed 1-19-24; 8:45 am]

BILLING CODE 4810-37-P